DEPARTMENT OF LABOR

Employee Benefits Security Administration

Publication of Year 2006 Form M-1 With Electronic Filing Option, Notice

AGENCY: Employee Benefits Security Administration, Department of Labor.

ACTION: Notice on the Availability of the Year 2006 Form M-1 with Electronic Filing Option.

SUMMARY: This document announces the availability of the Year 2006 Form M-1, Annual Report for Multiple Employer Welfare Arrangements and Certain Entities Claiming Exception. It is substantively identical to the 2005 Form M-1. The Form M-1 may again be filed electronically over the Internet.

FOR FURTHER INFORMATION CONTACT: For inquiries regarding the Form M-1 filing requirement, contact Amy J. Turner or Beth Gelman, Office of Health Plan Standards and Compliance Assistance, at (202) 693-8335. For inquiries regarding how to obtain or file a Form M-1, see the Supplementary Information section below.

SUPPLEMENTARY INFORMATION:

I. Background

The Form M-1 is required to be filed under section 101(g) and section 734 of the Employee Retirement Income Security Act of 1974, as amended (ERISA), and 29 CFR 2520.101-2.

II. The Year 2006 Form M-1

This document announces the availability of the Year 2006 Form M-1, Annual Report for Multiple Employer Welfare Arrangements (MEWAs) and Certain Entities Claiming Exception (ECEs). This year's Form M-1 is substantively identical to the Year 2005 Form M-1. The electronic filing option has been retained and filers are encouraged to use this method. The Year 2006 Form M-1 is due March 1, 2007, with an extension until May 1, 2007 available.

The Employee Benefits Security Administration (EBSA) is committed to working together with administrators to help them comply with this filing requirement. Copies of the Form M-1 are available on the Internet at http://www.dol.gov/ebsa/forms_requests.html. In addition, after printing, copies will be available by calling the EBSA toll-free publication hotline at 1-866-444-EBSA (3272). Questions on completing the form are being directed to the EBSA help desk at (202) 693-8360. For questions regarding the electronic filing capability, contact the EBSA computer help desk at (202) 693-8600.

Statutory Authority: 29 U.S.C. 1021-1024, 1027, 1029-31, 1059, 1132, 1134, 1135, 1181-1183, 1181 note, 1185, 1185a-b, 1191, 1191a-c; Secretary of Labor's Order No. 1-2003, 68 FR 5374 (February 2, 2003).

Signed at Washington, DC this 1st day of December, 2006.
Bradford P. Campbell,
Acting Assistant Secretary, Employee Benefits Security Administration.

[FR Doc. E6-20686 Filed 12-6-06; 8:45 am]

BILLING CODE 4510-29-P